DEPARTMENT OF THE INTERIOR

Geological Survey

[GX15AE6000C1000]

Notice of Intent To Grant an Exclusive License

AGENCY: Geological Survey, Department of the Interior.

ACTION: Notice of intent to grant an exclusive license.

SUMMARY: The Notice is hereby given that the U.S. Geological Survey intends to grant to Glosten Associates, 1201 Western Avenue, Suite 200, Seattle, WA 98101, an exclusive license to practice the following: A system, method, and apparatus for treating ship ballast water.

DATES: Comments must be received fifteen (15) days from the effective date of this notice.

FOR FURTHER INFORMATION CONTACT: Benjamin Henry, Technology Enterprise Specialist, Office of Policy & Analysis, U.S. Geological Survey, 12201 Sunrise Valley Dr., MS 153, Reston, VA 20192, 703-648-4344.

SUPPLEMENTARY INFORMATION: It is in the public interest to license this invention, as Glosten Associates, submitted a complete and sufficient application for a license. The prospective exclusive license will be royalty-bearing and will comply with the terms and conditions of 35 U.S.C. 209 and 37 CFR 404.7. The prospective exclusive license may be granted unless, within fifteen(15) days from the date of this published Notice, the U.S. Geological Survey Office of Policy & Analysis receives written evidence and argument which establishes that the grant of the license would not be consistent with the requirements of 35 U.S.C. 209 and 37 CFR 404.7.

Katherine McCulloch,
Deputy Associate Director for Administration.

[FR Doc. 2015-17247 Filed 7-13-15; 8:45 am]

BILLING CODE 4311-AM-P